DEPARTMENT OF HOMELAND SECURITY

Bureau of Customs and Border Protection

[USCBP-2007-0060]

Notice of Availability of a Final Programmatic Environmental Assessment (PEA) and a Finding of No Significant Impact (FONSI) on the Western Hemisphere Travel Initiative in the Land and Sea Environments

AGENCY: Customs and Border Protection (CBP), Department of Homeland Security (DHS).

ACTION: Notice of availability.

SUMMARY: A Final Programmatic Environmental Assessment (PEA) and Finding of No Significant Impact (FONSI) for the Western Hemisphere Travel Initiative (WHTI) in the Land and Sea Environments are available to the public for review. The Final PEA documents a review of potential environmental impacts. Based on the Final PEA, a determination was made that the travel documents proposed for WHTI and use of the travel documents for implementation of the Intelligence Reform and Terrorism Prevention Act of 2004 (IRTPA) will not have a significant impact on the quality of the human environment such that it would require further analysis under the National Environmental Policy Act of 1969 (NEPA). The Final PEA addresses the substantive comments received on the Draft PEA during the public comment period. The Final PEA resulted in a FONSI that describes the programmatic action alternatives to be used as the approach to meet the requirements of WHTI. The Final PEA and FONSI are made available to the public in accordance with NEPA and the Council on Environmental Quality (CEQ) regulations for implementing NEPA.

DATES: The Final PEA and FONSI will be available to the public on September 6, 2007.

ADDRESSES: Copies of the Final PEA and FONSI may be obtained by download through the Internet at http://www.cbp.gov/travel and http://www.regulations.gov or by writing to: CBP, 1300 Pennsylvania Avenue, NW., Room 5.4D, Attn: WHTI Environmental Assessment, Washington, DC 20229.

FOR FURTHER INFORMATION CONTACT: U.S. Customs and Border Protection, WHTI Program Management Office, ATTN: Ms. Colleen Manaher, 1300 Pennsylvania Avenue, NW., Room 5.4D, Washington, DC 20229, (202) 344-1220, e-mail address: Colleen.M.Manaher@dhs.gov.

SUPPLEMENTARY INFORMATION: Section 7209 of IRTPA, as amended, provides that upon full implementation, U.S., Bermudian, and Canadian citizens, and Mexican nationals would be required to present a passport or such alternative documents as the Secretary of Homeland Security designates as satisfactorily establishing identity and citizenship upon entering the United States.

In a Notice of Proposed Rulemaking (NPRM) published in the Federal Register on June 26, 2007 (72 FR 35088), DHS and the Department of State (DOS) described the second phase of a joint plan, known as WHTI, to implement these new requirements. The NPRM proposed the specific documents that U.S. citizens and nonimmigrant aliens from Canada, Bermuda, and Mexico would be required to present when entering the U.S. at sea and land ports-of-entry from Western Hemisphere countries.

DHS and CBP have analyzed the potential impacts on the human environment of several alternate ways of implementing WHTI at sea and land ports-of-entry based on technological and operational considerations as part of the decision-making process. The impact analysis in the Final PEA and FONSI focuses primarily on the effects of implementing WHTI at land ports-of-entry because the land environment is the most sensitive to the proposed document and technological changes associated with implementation of WHTI.

Four technological and operational alternatives to meet the requirements to define and process secure, standardized travel documents under WHTI are analyzed in the PEA. The four alternatives are: (1) No-Action Alternative: maintain the status quo; (2) Standardized Documents Alternative: accept a limited number of document categories for admission at all sea or land ports-of-entry (LPOEs); (3) MRZ Alternative: Accept standardized documents that contain a Machine Readable Zone (MRZ); and (4) RFID Alternative: Accept standardized documents that contain Radio Frequency Identification (RFID) technology and an MRZ, for the use of RFID-enabled readers at the busiest LPOEs and MRZ at all LPOEs. As described in the PEA, air quality and noise are the primary resource areas that have the most potential to be affected by implementation of WHTI. However, no significant environmental impacts to these resources or any other human or natural environments from the implementation of any of the WHTI alternatives are anticipated.

Dated: September 19, 2007.
Eugene H. Schied,
Assistant Commissioner, Office of Finance.

[FR Doc. E7-19035 Filed 9-25-07; 8:45 am]

BILLING CODE 9111-14-P